DEPARTMENT OF STATE

[Public Notice: 9158]

Preparations for the Second Session of the International Maritime Organization's (IMO) Subcommittee on Implementation of IMO Instruments; Notice of Public Meeting

The Department of State, in conjunction with the U.S. Coast Guard, announces an open meeting at 10:00 a.m. on Thursday July 2, 2015, in U.S. Coast Guard Headquarters, Room 5Y23-21, Washington, DC The primary purpose of the meeting is to prepare for the second session of the International Maritime Organization's (IMO) Subcommittee on Implementation of IMO Instruments to be held at the IMO Headquarters, United Kingdom on July 13-17, 2015.

The agenda items to be considered include:

• Decisions of other IMO bodies

• Non-mandatory instruments on regulations for non-convention ships;

• Requirements for access to, or electronic versions of, certificates documents, including record books required to be carried on ships;

• Consideration and analysis of reports on alleged inadequacy of port reception facilities;

• Analysis of casualty and port state control (PSC) data to identify trends and develop knowledge and risk-based recommendations;

• Measures to harmonize PSC activities and procedures worldwide;

• Analysis of consolidated audit summary reports;

• Update survey guidelines under the Harmonized System of Survey and Certification (HSSC);

• Non-exhaustive list of obligations under instruments relevant to the IMO Instruments Implementation Code (III Code);

• Unified interpretation of provisions of IMO safety, security, and environment related Conventions;

• Review of general cargo ship safety;

• Any other business

Members of the public may attend this meeting up to the seating capacity of the room. Upon request, members of the public may also participate via teleconference, up to the capacity of the teleconference phone line. The access number for this teleconference line will be posted online at http://www.uscg.mil/imo/iii/default.asp at least 5 working days in advance. Physical access to the meeting, or participation via the teleconference line, requires that all attendees respond to the meeting coordinator not later than June 25, 2015, seven working days prior to the meeting. The meeting coordinator, Mr. Christopher Gagnon, may be contacted by email at christopher.j.gagnon@uscg.mil or by phone at (202) 372-1231. Requests made after June 25, 2015 might not be able to be accommodated. Please note that due to security considerations, two valid, government issued photo identifications must be presented to gain entrance to the Coast Guard Headquarters building. The building is accessible by public transportation or taxi. Additional information regarding this and other IMO public meetings may be found at: www.uscg.mil/imo.

Dated: May 27, 2015.
Marc Zlomek,
Executive Secretary, Office of Ocean and Polar Affairs, Department of State.

[FR Doc. 2015-13442 Filed 6-1-15; 8:45 am]

BILLING CODE 4710-09-P